DEPARTMENT OF TRANSPORTATION

Federal Highway Administration

[FHWA Docket No. FHWA-2016-0017]

Fixing America's Surface Transportation Act—Designation of Alternative Fuel Corridors

AGENCY: Federal Highway Administration (FHWA), Department of Transportation (DOT).

ACTION: Notice; solicitation of nominations.

SUMMARY: Section 1413 of the Fixing America's Surface Transportation (FAST) Act requires the Secretary of Transportation to designate national electric vehicle (EV) charging, hydrogen, propane, and natural gas fueling corridors. The FHWA is issuing this Federal Register Notice to invite nominations from State and local officials to assist in making such designations.

DATES: Submissions must be received on or before August 22, 2016. Late submissions will be considered to the extent practicable.

ADDRESSES: You may submit comments identified by the docket number FHWA-2016-0017 by any one of the following methods:

Fax: 1-202-493-2251;

Mail: U.S. Department of Transportation, Docket Operations, M-30, West Building Ground Floor, Room W12-140, 1200 New Jersey Avenue SE., Washington, DC 20590;

Hand Delivery: U.S. Department of Transportation, Docket Operations, West Building Ground Floor, Room W12-140, 1200 New Jersey Avenue SE., Washington, DC 20590, between 9 a.m. and 5 p.m., Monday through Friday, except Federal holidays; or electronically through the Federal eRulemaking Portal: http://www.regulations.gov. Follow the online instructions for submitting comments.

Instructions: All submissions must include the agency name, docket name and docket number for this notice (FHWA-2016-0017). The DOT posts these comments, without edit, including any personal information the commenter provides, to www.regulations.gov, as described in the system of records notice (DOT/ALL-14 FDMS), which can be reviewed at www.dot.gov/privacy.

Docket: For access to the docket to read background documents or comments received, go to http://www.regulations.gov at any time or to U.S. Department of Transportation, Docket Operations, M-30, West Building Ground Floor, Room W12-140, 1200 New Jersey Avenue SE., Washington, DC 20950, between 9 a.m. and 5 p.m., Monday through Friday, except Federal holidays.

FOR FURTHER INFORMATION CONTACT: Diane Turchetta, Office of Natural Environment, (202) 493-0158, or via email at diane.turchetta@dot.gov. For legal questions, please contact Robert Black, Office of the Chief Counsel, (202) 366-1359, or via email at robert.black@dot.gov.

SUPPLEMENTARY INFORMATION:

Background

Section 1413 of the FAST Act (Section 1413), signed into law on December 4, 2015, requires the Secretary to designate national EV charging, hydrogen, propane, and natural gas fueling corridors within 1 year from the date of enactment (December 4, 2016). (23 U.S.C. 151). In accordance with 23 U.S.C. 151(a), corridor designations must identify near-and long-term need for, and location of, EV charging infrastructure, hydrogen fueling infrastructure, propane fueling infrastructure, and natural gas fueling infrastructure at strategic locations along major national highways to improve mobility of passenger and commercial vehicles that employ electric, hydrogen fuel cell, propane, and natural gas fueling technologies across the United States.

The FHWA must solicit nominations for corridors from State and local officials and involve a range of stakeholders. (23 U.S.C. 151(b) and (c)). Within 5 years of establishing the corridors, and every 5 years thereafter, DOT must update and re-designate the corridors. During the designation and re-designation of the corridors, the FHWA is to issue a report that identifies EV charging infrastructure, hydrogen fueling infrastructure, propane fueling infrastructure, and natural gas fueling infrastructure and standardization needs for electricity providers, industrial gas providers, natural gas providers, infrastructure providers, vehicle manufacturers, electricity purchases, and natural gas purchases. The report must also establish aspirational goals of achieving strategic deployment of EV charging infrastructure, hydrogen fueling infrastructure, propane fueling infrastructure, and natural gas fueling infrastructure in those corridors by the end of fiscal year 2020. The FHWA held two national Webinars (May 12, 2016, and May 16, 2016) at which stakeholders were invited to provide input to FHWA on the process, timeline, and specific topics related to the implementation of Section 1413. The presentation, transcript of chat pods, and Webinar recordings can be found at: http://www.fhwa.dot.gov/environment/climate_change/mitigation/webinars/.

Information To Be Included in Nominations

Any State or local agency is invited to nominate an alternative fuel corridor for designation. For the purposes of this solicitation, an eligible corridor is defined as a segment of the National Highway System (NHS).¹ However, to encourage the creation of a national network of alternative fuel infrastructure, a corridor may also include feeder routes/roads that connect to that NHS segment. Both corridors within a single State and multistate corridors are eligible, with the goal of connecting communities, cities, and regions to develop a national network of alternative fuel facilities. A State or local agency interested in submitting a nomination for a corridor designation should develop a 20-page maximum nomination (nothing beyond the first 20 pages will be considered, including attachments) containing the following elements/information:

¹ See following FHWA Web site for definitions and descriptions of the NHS: http://www.fhwa.dot.gov/planning/national_highway_system/.

• Corridor being proposed for designation (include the official name of the NHS segment and beginning and end points of the proposed corridor);

• Name of lead State or local agency originating the nomination;

• Name of the entity (or entities) with jurisdiction over the proposed corridor (i.e., State, local government, Indian tribe and/or Federal land management agency);

• Description of corridor, including the major metropolitan areas and/or intermodal facilities located along the corridor, how the corridor contributes to the national network, and why it is being proposed for designation;

• Corridor use (i.e., mainly freight, mainly passenger, or both);

• Approximate population along proposed corridor or in general area/region, including median income and basic demographic information;

• Benefits to disadvantaged groups and/or communities, which may include low-income groups, persons with visible or hidden disabilities, elderly individuals, and minority persons and populations;

• Existing and projected usage of the corridor (i.e., vehicle miles traveled and/or freight congestion/tonnage moved);

• Goals for increasing the use of alternative fuels;

• Type of alternative fuel(s) currently used and/or projected to be used along the corridor;

• Estimated/projected cost of planned alternative fuel facilities on proposed corridor, if known;

• Type, number, and distance between existing and planned alternative fuel facilities by fuel type located along proposed corridor (e.g., for electric vehicle charging corridors or CNG facilities, the type and level of charging technology in use or planned);

• Demonstrated interest and support for alternative fuel facilities from stakeholders;

• Standardization needs for fuel/charging providers, manufacturers, and purchasers; and

• Goals for strategic deployment of refueling/recharging infrastructure along corridor and/or network for short-term (by the end of fiscal year 2020), and long-term (by the end of fiscal year 2040).

Criteria for Designating Alternative Fuel Corridors ²

² Section 111 of Title 23 United States Code prohibits Interstate rest areas built after January 1, 1960 from offering commercial services such as fuel and food on the Interstate right-of-way. In light of this provision, an alternative fuel facility can be located on an Interstate right-of-way, but a fee may not be charged for the facility.

The FHWA plans to designate alternative fuel corridors based on the criteria outlined in this solicitation. Corridor designations will be selected based on the following criteria, which are listed in priority order and indicated by numbered and bolded headings. Sub-bullets are not in priority order:

1. Alternative Fuel Facilities

• Number of existing alternative fuel facilities on corridor;

• Number of additional planned/projected alternative fuel facilities on corridor;

• Distance between existing and planned/projected alternative fuel facilities on corridor;

• Visibility, convenience, and accessibility to the users on the corridor; and

• Explanation of successfully developing new alternative fuel facilities along the corridor based on past activity/success.

2. Corridor Scale/Impact

• Connections to other segments of the NHS in order to create/develop a national network of alternative fuel infrastructure;

• Whether the corridor connects to one or more major metropolitan areas and/or multiple States (multiple States that submit a joint application must identify a lead applicant as the primary point of contact); and/or

• Whether the corridor connects to one or more major intermodal facilities (i.e. freight, transit, etc.).

3. Emission Reductions

• Estimated reductions in greenhouse gas and/or criteria pollutant emissions along the corridor, or in the area, due to existing and projected alternative fuel facilities.

4. Development of Team and Degree of Collaboration and Support

• Degree of collaboration, and formation of partnerships, regarding alternative fuel vehicles and infrastructure with both public and private sector entities, which should include:

State and local officials (nomination must include support from the transportation agency or agencies with jurisdiction over the proposed corridor such as the State, local government, Indian tribe, and/or Federal land management agency;

Other Federal agencies;

Department of Energy's (DOE) Clean Cities Program, as well as its associated network of coalitions and stakeholders); and

Representatives of energy utilities; electric, fuel cell electric, propane, and natural gas vehicle industries; equipment manufacturers; fuel suppliers; Original Equipment Manufacturers; public or private fleets; auto dealerships; energy marketers; utilities/energy companies; alternative fuel and clean air advocacy organizations; local and regional planning entities; freight and shipping industry; clean technology firms; hospitality industry; highway rest stop vendors; industrial gas and hydrogen manufacturers; and

• Demonstrated interest and support. For example, support demonstrated through past work in the area on alternative fuels, support from local elected officials, public support, stakeholder support, development of incentives, etc.

• Whether the proposed corridor is an existing electric vehicle charging, hydrogen fueling, propane fueling or natural gas corridor been designated by a State or group of States.

Optional Information and Considerations

• Consideration of Clean Cities coalition ³ locations/existing alternative fuel markets;

³ https://cleancities.energy.gov/coalitions/.

• Whether the corridor or segments of the corridor are located in in ozone, carbon monoxide, or particulate matter nonattainment or maintenance areas;

• Goals for greenhouse gas and/or criteria pollutant emission reductions;

• Available State and/or local alternative fuel vehicle incentives/programs;

• Current and future demand for alternative fuel facilities based on current and predicted usage patterns (passenger, freight, and other commercial vehicles). The analysis of future demand/alternative fuel facilities should include description of how the corridor will be extended and/or how distances between stations will be shortened (i.e., gaps closed);

• Other alternative fuels included under the Energy Policy Act of 2005 but not included in Section 1413, or vehicle technologies such as Truck Stop Electrification used along corridor that contribute to greenhouse gas or criteria air pollutant emission reductions;

• Availability of alternative fuel vehicle support services in the vicinity/region (e.g. maintenance and repair shops, first responders, safety officials, towing and road-side rescue services, etc.);

• Potential of designation to serve as a national case to document lessons learned/best practices.

Support for Designated Corridors

Although Section 1413 does not provide dedicated funding for designated corridors, FHWA believes the designation of such corridors can serve important public purposes. For instance, the United States has pledged to reduce greenhouse gas (GHG) emissions 26-28 percent by 2025 and 80 percent or more by 2050. The transportation sector is a significant source of U.S. GHG emissions, (tailpipe GHG emissions from transportation sources accounted for 27 percent of total U.S. GHG emissions), and achieving reductions in these emissions will be needed to support national commitments. Alternative fuel corridors with support for lower-emitting vehicles can assist in this effort.

Furthermore, it is FHWA's goal and intent to create and expand a national network of alternative fueling and charging infrastructure along NHS corridors by developing a process that provides the opportunity for a formal corridor designation once the criteria set forth in the solicitation are met, and on a rolling basis, without a cap on the number of corridors; ensures that corridor designations are selected based on criteria that promote the “build out” of a national network; develops national signage and branding to help catalyze applicant and public interest; encourages multistate and regional cooperation and collaboration; and, brings together a consortium of stakeholders including State agencies, utilities, alternative fuel providers, and car manufacturers to promote and advance alternative fuel corridor designations in conjunction with the DOE.

In support of this goal, the FHWA intends to develop appropriate signage that may be placed on designated corridors in accordance with the Manual on Uniform Traffic Control Devices (MUTCD).⁴ The FHWA anticipates that any such signage will distinguish between “zero emission” corridors (supported by electric vehicle charging or hydrogen fueling infrastructure) and “alternative fuel” corridors (supported by propane or natural gas fueling infrastructure), to make clear the nature of the alternative fuel supported in each corridor.

⁴ For information on the MUTCD please see the following Web site: http://mutcd.fhwa.dot.gov.

Timeline

The deadline for this initial solicitation is August 22, 2016. After this deadline, FHWA will establish a process for future nominations and designations on a rolling basis.

Authority: Section 1413 of the FAST Act (Pub. L. 114-94).

Issued on: July 8, 2016.
Gregory G. Nadeau,
Administrator, Federal Highway Administration.

[FR Doc. 2016-17132 Filed 7-21-16; 8:45 am]

BILLING CODE 4910-22-P